ENVIRONMENTAL PROTECTION AGENCY

40 CFR Part 63

[EPA-HQ-OAR-2010-0895; FRL-9917-93-OAR]

RIN 2060-AQ11

National Emission Standards for Hazardous Air Pollutants: Ferroalloys Production

AGENCY: Environmental Protection Agency.

ACTION: Supplemental notice of proposed rulemaking; correction.

SUMMARY: This action corrects our supplemental notice of proposed rulemaking to the national emission standards for hazardous air pollutants for the Ferroalloys Production source category published in the Federal Register on October 6, 2014. In that action, there is an incorrect location for the public hearing. This document amends the public hearing location and the date the hearing will be held, if requested.

DATES: This correction is made on October 15, 2014.

Public Hearing. If anyone contacts the EPA requesting a public hearing by October 20, 2014, the EPA will hold a public hearing on October 30, 2014 from 1:00 p.m. [Eastern Standard Time] to 5:00 p.m. [Eastern Standard Time] at the U.S. Environmental Protection Agency building located at 109 T.W. Alexander Drive, Research Triangle Park, NC 27711. If the EPA holds a public hearing, the EPA will keep the record of the hearing open for 30 days after completion of the hearing to provide an opportunity for submission of rebuttal and supplementary information.

ADDRESSES: To request a hearing, register to speak at the hearing or to inquire as to whether or not a hearing will be held, please contact Ms. Virginia Hunt of the Sector Policies and Programs Division (E143-01), Office of Air Quality Planning and Standards, Environmental Protection Agency, Research Triangle Park, NC 27711; telephone number: 919-541-0832; email address: hunt.virginia@epa.gov. The last day to pre-register to speak at the hearing will be October 27, 2014. Additionally, requests to speak will be taken the day of the hearing at the hearing registration desk, although preferences on speaking times may not be able to be fulfilled. If you require the service of a translator or special accommodations, such as audio description, we ask that you pre-register for the hearing, as we may not be able to arrange such accommodations without advance notice. The hearing will provide interested parties the opportunity to present data, views or arguments concerning the proposed action. The EPA will make every effort to accommodate all speakers who arrive and register. Because this hearing is being held at a U.S. government facility, individuals planning to attend the hearing should be prepared to show valid picture identification to the security staff in order to gain access to the meeting room. Please note that the REAL ID Act, passed by Congress in 2005, established new requirements for entering federal facilities. If your driver's license is issued by Alaska, American Samoa, Arizona, Kentucky, Louisiana, Maine, Massachusetts, Minnesota, Montana, New York, Oklahoma or the state of Washington, you must present an additional form of identification to enter the federal building. Acceptable alternative forms of identification include: Federal employee badges, passports, enhanced driver's licenses and military identification cards. In addition, you will need to obtain a property pass for any personal belongings you bring with you. Upon leaving the building, you will be required to return this property pass to the security desk. No large signs will be allowed in the building, cameras may only be used outside of the building and demonstrations will not be allowed on federal property for security reasons. The EPA may ask clarifying questions during the oral presentations, but will not respond to the presentations at that time. Written statements and supporting information submitted during the comment period will be considered with the same weight as oral comments and supporting information presented at the public hearing. Verbatim transcripts of the hearing and written statements will be included in the docket for the rulemaking. The EPA will make every effort to follow the schedule as closely as possible on the day of the hearing; however, please plan for the hearing to run either ahead of schedule or behind schedule. Again, a hearing will not be held on this rulemaking unless requested. A hearing will be held if requested by October 20, 2014. Please contact Ms. Virginia Hunt of the Sector Policies and Programs Division (E143-01), Office of Air Quality Planning and Standards, Environmental Protection Agency, Research Triangle Park, NC 27711; telephone number: 919-541-0832; email address: hunt.virginia@epa.gov, to request a hearing or to find out if a hearing will be held. Information on the status of the hearing can also be found on the agency's Web site at: http://www.epa.gov/ttn/atw/ferroa/ferropg.html.

SUPPLEMENTARY INFORMATION: This action amends the public hearing location and the date the hearing will be held, if requested, for the supplemental notice of proposed rulemaking, National Emission Standards for Hazardous Air Pollutants: Ferroalloys Production, published in the Federal Register on October 6, 2014 (79 FR 60238).

Dated: October 8, 2014.
Mary E. Henigin,
Acting Director for Office of Air Quality Planning and Standards.

[FR Doc. 2014-24461 Filed 10-9-14; 4:15 pm]

BILLING CODE 6560-50-P